ENVIRONMENTAL PROTECTION AGENCY

[FRL-11586-01-OW]

Deepwater Horizon Natural Resource Damage Assessment Florida Trustee Implementation Group Draft Restoration Plan 3 and Environmental Assessment: Water Quality

AGENCY: Environmental Protection Agency (EPA).

ACTION: Notice of availability; request for public comments.

SUMMARY: The Deepwater Horizon natural resource Trustees for the Florida Trustee Implementation Group have prepared the Draft Restoration Plan 3 and Environmental Assessment: Water Quality. The Draft RP3/EA proposes alternatives to help restore water quality impacted by the DWH oil spill. The Draft RP3/EA evaluates a reasonable range of thirteen project alternatives under the Oil Pollution Act, including criteria set forth in the OPA natural resource damage assessment regulations, and the National Environmental Policy Act and its implementing regulations. A no action alternative is also evaluated pursuant to the NEPA. The total estimated cost to implement the Florida TIG's eleven preferred alternatives is approximately $111.5 million. The Florida TIG invites the public to comment on the Draft RP3/EA.

DATES: The Florida TIG will consider public comments on the Draft RP3/EA received on or before April 8, 2024.

Public Webinar: The Florida TIG will host a public webinar on March 27, 2024, at 3 p.m. Eastern Time/2 p.m. Central Time to facilitate public review and comment on the Draft RP3/EA. The public may register for the webinar at https://attendee.gotowebinar.com/register/8172353705750284118. After registering, participants will receive a confirmation email with instructions for joining the webinar and how to make comments during the webinar. Shortly after the webinar concludes, the presentation material will be posted on the web at https://www.gulfspillrestoration.noaa.gov/restoration-areas/florida.

ADDRESSES: Obtaining Documents: You may view and download the Draft RP3/EA at https://www.gulfspillrestoration.noaa.gov/restoration-areas/florida. You may also request a flash drive containing the Draft RP3/EA (see FOR FURTHER INFORMATION CONTACT).

Submitting Comments: You may submit comments on the Draft RP3/EA by any of the following methods:

• Website: https://parkplanning.nps.gov/FLTIGRP3. Follow the online instructions for submitting comments.

• Mail: U.S. Fish and Wildlife Service Gulf Restoration Office, 1875 Century Blvd., Atlanta, GA 30345. To be considered, mailed comments must be postmarked on or before the comment deadline given in DATES.

• Public Webinar: The public may submit comments during the webinar. Webinar information is provided in DATES.

Instructions: Once submitted, comments cannot be edited or withdrawn. The Florida TIG may publish any comment received regarding the document. Do not submit electronically any information you consider to be Confidential Business Information or other information whose disclosure is restricted by statute. Please be aware that your entire comment, including your personal identifying information, will become part of the public record.

FOR FURTHER INFORMATION CONTACT:

Sarah Ketron; Florida Department of Environmental Protection; 850-245-2167; Sarah.Ketron@FloridaDEP.gov.

Tripp Boone; Environmental Protection Agency; 228-209-7555; Boone.Tripp@epa.gov.

SUPPLEMENTARY INFORMATION:

Introduction

On April 20, 2010, the mobile offshore drilling unit Deepwater Horizon, which was drilling a well for BP Exploration and Production, Inc., experienced a significant explosion, fire and subsequent sinking in the Gulf of Mexico, resulting in the release of millions of barrels of oil and other discharges into the Gulf. Under the authority of the OPA, designated Federal and State Trustees, acting on behalf of the public, assessed the injuries to natural resources and prepared the Deepwater Horizon Oil Spill Final Programmatic Damage Assessment and Restoration Plan and Final Programmatic Environmental Impact Statement, and the Record of Decision for the Deepwater Horizon Oil Spill Final Programmatic Damage Assessment and Restoration Plan and Final Programmatic Environmental Impact Statement, which sets forth the governance structure and process for DWH restoration planning under the OPA NRDA regulations. On April 4, 2016, the United States District Court for the Eastern District of Louisiana entered a Consent Decree resolving civil claims by the Trustees against BP.

The Florida TIG, which is composed of the State of Florida Department of Environmental Protection and the Fish and Wildlife Conservation Commission, the Environmental Protection Agency, the U.S. Department of the Interior, the National Oceanic and Atmospheric Administration, and the U.S. Department of Agriculture, selects and implements restoration projects under the TIG's management authority in accordance with the Consent Decree. The Final PDARP/PEIS, ROD, Consent Decree, and information on the DWH Trustees can be found at https://www.gulfspillrestoration.noaa.gov/restoration-planning/gulf-plan.

Background

On November 7, 2022, the Florida TIG issued a notice of solicitation on the Gulf Spill Restoration website requesting project ideas for the Water Quality Restoration Type as described in the Final PDARP/PEIS. On August 7, 2023, the TIG announced on the Gulf Spill Restoration website that they reviewed project idea submissions and initiated drafting the RP3/EA which tiers from the Final PDARP/PEIS and would include a reasonable range of restoration project alternatives for the Water Quality Restoration Type.

Overview of the Florida TIG Draft RP3/EA

In the Draft RP3/EA, the Florida TIG analyzes a reasonable range of thirteen project alternatives and, pursuant to the NEPA, a no action alternative. Two of the alternatives analyzed are not preferred by the TIG at this time. Funding to implement any of the alternatives ultimately selected by the Florida TIG would come from the Water Quality Restoration Type Allocation. The reasonable range of project alternatives evaluated by the TIG are listed below:

1. Pensacola and Perdido Watersheds Microbial Source Tracking (Planning);

2. Pensacola Bay Unpaved Roads Initiative Phase 2 (Planning);

3. Carpenter Creek Hydrologic Restoration and Stormwater Improvements;

4. Hollice T. Williams Stormwater Park;

5. Gulf Breeze Septic to Sewer Conversion;

6. Santa Rosa County Septic to Sewer Conversion;

7. Choctawhatchee Bay Unpaved Roads Initiative;

8. Telogia Creek Watershed Water Quality Improvements;

9. Lower Suwannee National Wildlife Refuge Hydrologic Restoration Phase 2 (Planning);

10. Bond Farm Hydrologic Enhancement Impoundment;

11. Bond Farm Hydrologic Enhancement Southwest Discharge Structure (Planning);

12. Swift Creek Hydrologic Restoration (Non-preferred); and

13. Springfield Stream and Wetland Enhancement (Non-preferred).

The total estimated cost to implement the eleven preferred alternatives is approximately $111.5 million.

Next Steps

After the public comment period ends, the Florida TIG will consider and address all substantive comments received before making a final decision on which, if any, alternatives to fund and implement. A Final RP3/EA and finding of no significant impact, as appropriate, identifying the selected alternatives will be made publicly available.

Administrative Record

The Administrative Record for the Draft RP3/EA can be viewed electronically at https://www.doi.gov/deepwaterhorizon/adminrecord under the folder 6.5.4.2.

Authority

The authority for this action is the Oil Pollution Act of 1990 (33 U.S.C. 2701 et seq.), its implementing NRDA regulations found at 15 CFR part 990, and the National Environmental Policy Act of 1969 (42 U.S.C. 4321 et seq.), its implementing regulations found at 40 CFR parts 1500-1508.

Benita Best-Wong,
Deputy Assistant Administrator.

[FR Doc. 2024-04727 Filed 3-7-24; 8:45 am]

BILLING CODE 6560-50-P